DEPARTMENT OF HEALTH AND HUMAN SERVICES

Administration for Children and Families

Announcement of the Publication of Funding Opportunity Announcements Under the Runaway and Homeless Youth Act

AGENCY: Family and Youth Services Bureau (FYSB), Administration on Children, Youth and Families (ACYF), ACF, HHS.

ACTION: Funding Opportunity Announcements for the Basic Center Program (BCP), Transitional Living Program (TLP)/Maternity Group Homes (MGH) are now available for application.

CFDA Number: 93.623, 93.550

Statutory Authority: Runaway and Homeless Youth Act, 42 U.S.C. sections 5701-5752, as amended by the Reconnecting Homeless Youth Act of 2008 Pub. L. 110-378.

SUMMARY: As required under 45 CFR 1351.17, ACF, ACYF, FYSB announces the publication of the following Funding Opportunity Announcements (FOAs) to the ACF Funding Opportunities Web site (http://www.acf.hhs.gov/grants/index.html) on 05/10/2012 and 05/11/2012:

Funding opportunity title | Funding opportunity number (FON) | Access to FOA | Application due date
Basic Center Program | HHS-2012-ACF-ACYF-CY-0303 | http://www.acf.hhs.gov/grants/open/foa/view/HHS-2012-ACF-ACYF-CY-0303 | 07/09/2012
Transitional Living Program and Maternity Group Homes | HHS-2012-ACF-ACYF-CX-0289 | http://www.acf.hhs.gov/grants/open/foa/view/HHS-2012-ACF-ACYF-CX-0289 | 07/10/2012
Transitional Living Program and Maternity Group Homes | HHS-2013-ACF-ACYF-CX-0531 | http://www.acf.hhs.gov/grants/open/foa/view/HHS-2013-ACF-ACYF-CX-0531 | 07/10/2012

Additional information and electronic submission of applications are available at: www.Grants.gov—FIND and APPLY.

FOR FURTHER INFORMATION CONTACT: Curtis O. Porter, Director, Runaway and Homeless Youth Program, Family and Youth Services Bureau, 1250 Maryland Ave. SW., Suite 800, Washington, DC 20024. Telephone: 202-205-8102; Email: NCFY@acf.hhs.gov.

Dated: May 22, 2012.
Bryan Samuels,
Commissioner, Administration on Children, Youth and Families.

[FR Doc. 2012-13498 Filed 6-4-12; 8:45 am]

BILLING CODE 4184-33-P